NUCLEAR REGULATORY COMMISSION

[NRC-2019-0073]

Stakeholder Input on Best Practices for Establishment and Operation of Local Community Advisory Boards in Response to a Portion of the Nuclear Energy Innovation and Modernization Act

AGENCY: Nuclear Regulatory Commission.

ACTION: Public meetings and webinar; reopening of comment period.

SUMMARY: On September 27, 2019, the U.S. Nuclear Regulatory Commission (NRC) solicited comments on best practices for establishment and operation of local community advisory boards (CABs) associated with decommissioning activities, including lessons learned from existing boards, as required by the Nuclear Energy Innovation and Modernization Act (NEIMA). The public comment period was originally scheduled to close on November 15, 2019. The NRC has elected to reopen the public comment period to allow more time for members of the public to develop and submit their comments. Consistent with the consultation requirements in NEIMA Section 108, the NRC has hosted 11 public meetings and a public webinar to consult with host States, communities within the emergency planning zone of an applicable nuclear power reactor, and existing local CABs. The NRC is planning to host a second public webinar on November 19, 2019. In addition to these public meetings and public webinars, the NRC has developed a questionnaire to collect information regarding the areas identified in NEIMA with respect to the creation and operation of CABs from CABs in the vicinity of power reactors undergoing decommissioning, similar established stakeholder groups, or local government organizations. The results of the meetings, along with any other data received as a result of the NRC's information collection activities associated with the NEIMA Section 108, will be captured in a best practices report that will be submitted to Congress.

DATES: The due date of comments requested in the notice published on September 27, 2019 (84 FR 51189) is reopened. Comments should be filed no later than December 6, 2019. Comments received after this date will be considered, if it is practical to do so, but the Commission is able to ensure consideration only for comments received on or before this date. The NRC hosted 11 Category 3 public meetings and a public webinar from August through October of 2019. A second public webinar will take place on November 19, 2019. Specific details regarding the webinar can be found on the NRC's public website at https://www.nrc.gov/waste/decommissioning/neima-section-108.html.

ADDRESSES: You may submit comments by any of the following methods:

• Federal Rulemaking Website: Go to https://www.regulations.gov and search for Docket ID NRC-2019-0073. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kim Conway, Office of Nuclear Material Safety and Safeguards, U.S. Nuclear Regulatory Commission, Washington, DC 20555-0001; telephone: 301-415-1335; email: NEIMA108.Resource@nrc.gov.

SUPPLEMENTARY INFORMATION:

I. Obtaining Information and Submitting Comments

A. Obtaining Information

Please refer to Docket ID NRC-2019-0073 when contacting the NRC about the availability of information for this action. You may obtain publicly-available information related to this action by any of the following methods:

• Federal Rulemaking Website: Go to https://www.regulations.gov and search for Docket ID NRC-2019-0073.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0073 in your comment submission. The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Introduction

On September 27, 2019 (84 FR 51189), as part of the ongoing efforts to obtain feedback from members of the public and other stakeholders, the NRC solicited comments on best practices for establishment and operation of local CABs associated with decommissioning activities, including lessons learned from existing boards, as required by Section 108 of NEIMA. The NRC is coordinating activities in accordance with Section 108 of NEIMA to develop a report identifying best practices for establishment and operation of CABs. The contents of this report, scheduled to be issued to Congress no later than July 14, 2020, will include (1) a description of the type of topics that might be brought before a CAB; (2) how the board's input could inform the decision-making process of stakeholders for various decommissioning activities; how the board could interact with the NRC and other Federal regulatory bodies to promote dialogue between the licensee and affected stakeholders; and (3) how the board could offer opportunities for public engagement throughout all phases of the decommissioning process. The report will also include a discussion of the composition of existing CABs and best practices identified during the establishment and operation of such boards, including logistical considerations, frequency of meetings, the selection of board members, etc.

In developing a best practices report, and as required by NEIMA, the NRC is consulting with host States, communities within the emergency planning zone of an applicable nuclear power reactor, and existing CABs. This consultation included hosting 11 Category 3 public meetings and 1 nationwide webinar, with another nationwide webinar scheduled for November 19, 2019. The public meetings were held in locations that ensure geographic diversity across the United States, with priority given to States that (1) have a nuclear power reactor currently undergoing the decommissioning process; and (2) requested a public meeting under the provisions of NEIMA in accordance with the Federal Register (FR) notice published on March 18, 2019 (84 FR 9841).

In addition to these public meetings, the NRC has developed a questionnaire to collect information regarding the areas identified in NEIMA with respect to the creation and operation of CABs. The NRC is requesting responses from existing CABs in the vicinity of power reactors undergoing decommissioning, similar established stakeholder groups, or local government organizations. The questionnaire is available at https://www.nrc.gov/waste/decommissioning/neima-local-comm-advisory-board-questionnaire.html.

III. Category 3 Public Meeting Dates and Locations

Consistent with the consultation requirements in NEIMA Section 108, the NRC received requests for and identified the areas surrounding the following nuclear power reactors as locations to host public meetings to discuss best practices and lessons learned for establishment and operation of local community advisory boards: (1) Crystal River 3 Nuclear Power Plant in Crystal River, Florida; (2) Diablo Canyon Power Plant in San Luis Obispo, California; (3) Humboldt Bay Nuclear Power Plant in Eureka, California; (4) Indian Point Energy Center in Buchanan, New York; (5) Kewaunee Power Station in Kewaunee, Wisconsin; (6) Oyster Creek Nuclear Generating Station in Forked River, New Jersey; (7) Palisades Nuclear Generating Station in Covert, Michigan; (8) Pilgrim Nuclear Power Station in Plymouth, Massachusetts; (9) San Onofre Nuclear Generating Station in San Clemente, California; (10) Vermont Yankee Nuclear Power Plant in Vernon, Vermont; and (11) Zion Nuclear Power Station in Zion, Illinois.

Additionally, the NRC hosted a public webinar held on August 8, 2019, to obtain comments from individuals in other areas of the country. The NRC is planning to host a second nationwide webinar on November 19, 2019, to discuss best practices and lessons learned for establishment and operation of local community advisory boards. For information about attending the webinar, please see the public NEIMA Section 108 website or contact the individual listed in the FOR FURTHER INFORMATION CONTACT section of this document.

IV. Local Community Advisory Board Questionnaire

The NRC is seeking input from existing CABs in the vicinity of power reactors undergoing decommissioning, similar established stakeholder groups, or local government organizations regarding best practices and lessons learned associated with CABs at decommissioning nuclear power reactors. The public comment period was originally scheduled to close on November 15, 2019. The NRC has decided to reopen the public comment period on this document until December 6, 2019, to allow more time for members of the public to submit their comments.

Dated at Rockville, Maryland this 13th day of November, 2019.
For the Nuclear Regulatory Commission.
Bruce A. Watson,
Chief, Reactor Decommissioning Branch, Division of Decommissioning, Uranium, Recovery and Waste Programs, Office of Nuclear Material Safety and Safeguards.

[FR Doc. 2019-24923 Filed 11-15-19; 8:45 am]

BILLING CODE 7590-01-P